DEPARTMENT OF COMMERCE

National Oceanic and Atmospheric Administration

Proposed Information Collection; Comment Request; Crab Economic Data Reports (EDRs)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 5, 2007.

ADDRESSES: Direct all written comments to Diana Hynek, Departmental Paperwork Clearance Officer, Department of Commerce, Room 6625, 14th St. and Constitution Avenue, NW., Washington, DC 20230 (or via the Internet at dHynek@doc.gov).

FOR FURTHER INFORMATION CONTACT: Requests for additional information or copies of the information collection instruments and instructions should be directed to Patsy A. Bearden, 907-586-7008 or patsy.bearden@noaa.gov.

SUPPLEMENTARY INFORMATION:

I. Abstract

National Marine Fisheries Service, Alaska Region (NMFS) manages the crab fisheries in the waters off the coast of Alaska through the Crab Rationalization (CR) Program. The CR Program reallocates Bering Sea and Aleutian Islands (BSAI) crab resources among harvesters, processors, and coastal communities. Section 313(j) of the Magnuson-Stevens Fishery Conservation and Management Act authorizes a mandatory data collection program for the fisheries of the CR Program. According to section 313(j)(1), the data from the economic data report (EDR) will be used “to study the impacts of the crab rationalization program,” to ensure that the program will achieve “equity between the harvesting and processing sectors,” and to monitor the “economic stability for harvesters, processors and coastal communities.”

An EDR is required from any owner or leaseholder of a vessel or processing plant that harvested or processed crab in specified BSAI crab fisheries during the prior calendar year.

II. Method of Collection

The EDRs may be completed on-screen, printed, and submitted by mail, fax, or hand delivery. Four versions of the EDR exist, one each for catcher vessels, catcher/processors, stationary floating crab processors, and shoreside processors. In addition, a Web-based system is available for catcher vessels.

III. Data

OMB Number: 0648-0518.

Form Number: None.

Type of Review: Regular submission.

Affected Public: Business or other for-profit.

Estimated Number of Respondents: 187.

Estimated Time per Response: 7 hours and 30 minutes to complete and submit an Annual Catcher Vessel EDR; 12 hours and 30 minutes to complete and submit an Annual Catcher/Processor EDR; 10 hours to complete and submit an Annual Stationary Floating Crab Processor EDR; and 10 hours to complete and submit an Annual Shoreside Processor EDR.

Estimated Total Annual Burden Hours: 5,429.

Estimated Total Annual Cost to Public: $ 3,307.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 30, 2007.
Gwellnar Banks,
Management Analyst, Office of the Chief Information Officer.

[FR Doc. E7-17534 Filed 9-4-07; 8:45 am]

BILLING CODE 3510-22-P